LIBRARY OF CONGRESS

Copyright Office

DEPARTMENT OF COMMERCE

United States Patent and Trademark Office

[Docket No. 2003-1]

Vessel Hull Design Protection Act

AGENCIES: The United States Copyright Office, Library of Congress; and the United States Patent and Trademark Office, Department of Commerce.

ACTION: Request for comments and notice of public hearing.

SUMMARY: In preparation for the report to the Congress on the Vessel Hull Design Protection Act, the United States Copyright Office and the United States Patent and Trademark Office are requesting written comments and are announcing a public hearing.

DATES: Written comments must be received on or before March 20, 2003. Reply comments must be received on or before April 14, 2003. The public meeting will be held on March 27, 2003, starting at 10 a.m. at the address below. Requests to participate or attend the public meeting are on a first-come, first-served basis and must be received by close of business on March 20, 2003.

ADDRESSES: If sent by mail, five copies of written comments and replies each should be addressed to: William J. Roberts, Jr., Senior Attorney, GC/I&R, P.O. Box 70400, Southwest Station, Washington, DC 20024-0400 and Linda S. Lourie, Attorney-Advisor, Office of External Affairs, United States Patent and Trademark Office, Box 4, Department of Commerce, Washington, DC 20231. If hand delivered, they should be brought to: Office of the General Counsel, James Madison Memorial Building, Room LM-403, First and Independence Avenues, SE., Washington, DC and the Office of External Affairs, United States Patent and Trademark Office, Suite 902, 2121 Crystal Drive, Crystal Park 2, Arlington, VA. The public meeting will take place in LM-414 (CARP Hearing Room), James Madison Memorial Building, First and Independence Avenue, SE., Washington, DC. Notices of intent to participate in the public hearing should be faxed to (202) 252-3423 or e-mailed to wroberts@loc.gov.

FOR FURTHER INFORMATION CONTACT: William J. Roberts, Jr., Senior Attorney, P.O. Box 70977, Southwest Station, Washington, DC 20024. Telephone: (202) 707-8380. Telefax: (202) 707-8366. Linda S. Lourie, Attorney-Advisor, Office of External Affairs, U.S. Patent and Trademark Office, Box 4, Department of Commerce, Washington, DC 20231. Telephone: (703) 305-9300. Telefax: (703) 305-8885.

SUPPLEMENTARY INFORMATION:

Background

As a part of the Digital Millennium Copyright Act of 1998, Congress passed the Vessel Hull Design Protection Act (“VHDPA”) which created sui generis protection for original designs of watercraft hulls and decks. The VHDPA was slated to sunset after two years but in 1999, as part of the Intellectual Property and Communications Omnibus Reform Act, the VHDPA was made a permanent part of the law. See 17 U.S.C. chapter 13. In making the VHDPA permanent, Congress directed the Register of Copyrights and the Under Secretary of Commerce for Intellectual Property and Director of the United States Patent and Trademark Office to conduct a study on the effectiveness of the VHDPA and report their findings to the Judiciary Committees of the Senate and House of Representatives by November 1, 2003.

In conducting the study, the Copyright Office and the U.S. Patent and Trademark Office are required to consider a number of factors. See Section 504 of the Digital Millennium Copyright Act of 1998, Pub. L. No. 105-304, 112 Stat. 2860. First, we must examine the extent to which the VHDPA has been effective in suppressing infringement of protected vessel hull designs. Second, we must consider the extent to which the vessel hull design registration process contained in chapter 13 of title 17 has been utilized by those eligible to claim protection. Third, we must consider the extent to which the creation of new designs of vessel hulls have been encouraged by the VHDPA. Fourth, we must examine the effect, if any, that the VHDPA has had on the price of protected vessel hulls.

Finally, we are directed to consider any other factors deemed relevant to accomplishing the purpose of this study. One item for consideration under this category is what, if any, amendments need to be made to the VHDPA to improve its function and/or effectiveness.

Request for Written Comments

In order to accomplish our assigned task, the cooperation and participation of marine manufacturers, designers and those affected by the VHDPA is essential. Consequently, we request interested parties to submit written comments and information/data relevant to the study factors described above. Although we are desirous of information related to all factors, we are particularly interested in receiving information as to how the VHDPA has stimulated the creation of new vessel hull designs, and what effect, if any, protection for designs has had on the price of watercraft. Interested parties submitting data or information that they consider confidential should appropriately mark such documents so that they are not included in the public record of this proceeding.

Public Hearing

To further the goal of obtaining relevant information and drafting the report, a public hearing will be held at the Copyright Office (see above for the specific address) on Thursday, March 27, 2003, at 10 a.m. The public hearing is intended to allow participants to present relevant information and answer questions from staff preparing the report. Those wishing to attend should notify the Copyright Office by fax or e-mail no later than March 20, 2003.

Dated: February 10, 2003.
David O. Carson,
General Counsel, Copyright Office.
Jonathan W. Dudas,
Deputy Under Secretary of Commerce for Intellectual Property and Deputy Director of the United States Patent and Trademark Office.

[FR Doc. 03-3749 Filed 2-12-03; 8:45 am]

BILLING CODE 1410-30-P